SMALL BUSINESS ADMINISTRATION

[Disaster Declaration # 10322 and # 10323]

Texas Disaster NO. TX-00097

AGENCY: U.S. Small Business Administration.

ACTION: Amendment 3.

SUMMARY: This is an amendment of the Presidential declaration of a major disaster for the State of Texas ( FEMA-1624-DR), dated 01/11/2006.

Incident: Extreme Wildfire Threat.

Incident Period: 12/01/2005 and continuing.

Effective Date: 04/03/2006.

Physical Loan Application Deadline Date: 04/12/2006.

EIDL Loan Application Deadline Date: 10/11/2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Texas, dated 01/11/2006 is hereby amended to include the following areas as adversely affected by the disaster:

Primary Counties: Caldwell, Gray, Guadalupe, Hutchinson, Roberts, Wheeler.

Contiguous Counties:

Texas: Armstrong, Bexar, Carson, Collingsworth, Comal, Donley, Gonzales, Hansford, Hays, Hemphill, Lipscomb, Moore, Ochiltree, Sherman, Wilson.

Oklahoma: Beckham, Roger Mills.

All other information in the original declaration remains unchanged.

(Catalog of Federal Domestic Assistance Numbers 59002 and 59008)
Roger B. Garland,
Acting Associate Administrator for Disaster Assistance.

[FR Doc. E6-5231 Filed 4-10-06; 8:45 am]

BILLING CODE 8025-01-P